DEPARTMENT OF EDUCATION

National Institute on Disability and Rehabilitation Research (NIDRR)—Disability and Rehabilitation Research Projects and Centers Program—Rehabilitation Research and Training Centers (RRTCs)—Effective Vocational Rehabilitation (VR) Service Delivery Practices

AGENCY: Office of Special Education and Rehabilitative Services, Department of Education.

ACTION: Notice of final priority.

Catalog of Federal Domestic Assistance (CFDA) Number: 84.133B-8.

SUMMARY: The Assistant Secretary for Special Education and Rehabilitative Services announces a priority for the Disability and Rehabilitation Research Projects and Centers Program administered by NIDRR. Specifically, this notice announces a priority for an RRTC on Effective Vocational Rehabilitation (VR) Service Delivery Practices. The Assistant Secretary may use this priority for competitions in fiscal year (FY) 2010 and later years. We take this action to focus research attention on areas of national need. We intend this priority to improve rehabilitation services and outcomes for individuals with disabilities.

DATES: Effective Date: This priority is effective August 9, 2010.

FOR FURTHER INFORMATION CONTACT: Marlene Spencer, U.S. Department of Education, 400 Maryland Avenue, SW., Room 5133, Potomac Center Plaza (PCP), Washington, DC 20202-2700. Telephone: (202) 245-7532 or by e-mail: Marlene.Spencer@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act) (29 U.S.C. 701 et seq.).

RRTC Program

The purpose of the RRTC program is to improve the effectiveness of services authorized under the Rehabilitation Act through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

We published a notice of proposed priority (NPP) for NIDRR's Disability and Rehabilitation Research Projects and Centers Program in the Federal Register on May 14, 2010 (75 FR 27328). The NPP included a background statement that described our rationale for the priority proposed in that notice.

There are differences between the NPP and this notice of final priority (NFP) as discussed in the following section.

Public Comment: In response to our invitation in the NPP, five parties submitted comments on the proposed priority. An analysis of the comments and of any changes in the priority since publication of the NPP follows.

Generally, we do not address technical and other minor changes, or suggested changes the law does not authorize us to make under the applicable statutory authority. In addition, we do not address general comments that raised concerns not directly related to the proposed priority.

Analysis of Comments and Changes

Comment: Two commenters suggested that the required activities under paragraph (a) of the priority would take longer than the six months that is allowed in the priority. These commenters suggested allowing at least a year for grantees to complete these activities.

Discussion: The required activities under paragraph (a) of the priority are intended to help grantees identify State VR programs with high employment outcome rates and promising VR service delivery practices. The Rehabilitation Services Administration (RSA) data to be analyzed under paragraph (a) are readily available, and we believe that the gathering of input from VR personnel and other stakeholders can be completed within the first six months of the cooperative agreement.

Changes: None.

Comment: In reference to the requirements under paragraph (a) of the priority, one commenter asked how NIDRR defines “systematically gathering input.”

Discussion: The goal of this input-gathering activity is to help identify promising practices that are associated with high rates of employment outcomes. Toward that end, applicants must propose and justify the methods that they will use to gather input from VR personnel and other stakeholders in a consistent and orderly manner. NIDRR believes that specifying the methods an applicant must use would be unnecessarily restrictive, and, therefore, is not identifying specific methods for meeting this requirement.

Changes: None.

Comment: With respect to the activities required under paragraph (b) of the priority, one commenter suggested that two to three in-depth case studies would not capture the variation in the size of VR programs or the regional variations that exist in VR programs across the U.S. This commenter suggested that more case studies would capture data that are more representative of VR agencies across the country.

Discussion: The purpose of the case studies is not to build a body of knowledge about VR programs that is representative of programs from around the country. Rather, the stated outcome goal for these in-depth case studies is improved knowledge of specific VR service delivery practices that have strong potential for improving employment outcomes for VR clients. This improved knowledge will help provide a basis for the testing of VR service delivery practices required under paragraph (c) of the priority.

Changes: None.

Comment: One commenter suggested that the RRTC develop a clearinghouse from which policymakers, researchers, and advocates could learn about successful VR services, techniques, programs, or approaches. This commenter suggested that such a clearinghouse could facilitate the replication of successful practices and policies identified by the RRTC.

Discussion: Paragraph (d) of the priority seeks to enhance the likelihood that effective practices identified by the RRTC will be adopted and used in VR settings. Under this paragraph, the RRTC is required to develop implementation strategies and tools that will facilitate the use of effective practices identified by the RRTC. There is a wide variety of strategies or tools that could be implemented to facilitate the use of findings, including the use of clearinghouses. NIDRR believes, however, that specifying the implementation strategies or tools an applicant must use would be unnecessarily restrictive, and therefore, NIDRR is not identifying such tools or strategies in the priority. Accordingly, applicants must specify the tools and implementation strategies that they will use to fulfill the requirements of paragraph (d) of the priority.

Changes: None.

Comment: One commenter noted that the in-depth case studies that are required under paragraph (b) of the priority to be completed by the end of the second year of the cooperative agreement could be completed in six months. This commenter also stated that the more extensive testing of practices under paragraph (c) of the priority would take at least 24 to 36 months and suggested that these activities should begin late in the second year of the RRTC.

Discussion: The commenter's suggestions regarding the timing of activities in paragraph (b) are within the timeline constraints of the priority and the project period of 60 months for grants under this program. Applicants are free to specify in their applications the timelines for conducting the required activities, so long as the activities required under paragraph (a) of the priority are completed within the first six months of the cooperative agreement and the activities required under paragraph (b) of the priority are completed within the first two years of the cooperative agreement. While certain applicants may be able to complete the activities required under paragraph (b) within six months, we do not have information that indicates that all applicants could do so and therefore decline to shorten that time period. With respect to the testing required under paragraph (c) of the priority, we do not believe it is necessary to specify a beginning date for these activities. Under paragraph (b) of the priority, a grantee will need to complete its identification of the practices to be tested by the end of year two of the cooperative agreement. We expect that a grantee will begin the testing required under paragraph (c) shortly after that process is complete.

Changes: None.

Comment: Two commenters asked about the specificity with which NIDRR uses the term “service delivery practice.” One commenter asked whether the term “practice” includes VR program management practices such as State agency partnerships, service funding arrangements, or VR staff capacity-building efforts. Another commenter suggested that the term “practice” reference VR program management practices, including staff development systems and administrative policies.

Discussion: The opening paragraph of this priority states that the RRTC must focus on the delivery of VR services that are authorized in the Rehabilitation Act. For the purposes of this priority, VR service delivery practices do not include VR management practices, administrative policies, staff development programs, or other practices that do not directly involve the delivery of services to VR clients.

Changes: None.

Comment: Three commenters asked about NIDRR's use of the term “test” in paragraph (c) of the priority. One commenter asked whether NIDRR's use of the term requires research that would lead to cause and effect assertions about VR practices. Another commenter noted that randomized clinical trials are an unrealistic means of testing practices under this priority, as such trials require more time and resources than are available to an RRTC. A third commenter, drawing a distinction between testing and evaluation, suggested that NIDRR add language that would allow the RRTC to rigorously test or evaluate practices under this paragraph.

Discussion: Nothing in the priority either precludes or requires the use of randomized experimental trials of VR service delivery practices. The word “test” in this priority is used to describe research activities that can begin to determine the effectiveness of specific VR service delivery practices. Applicants are free to choose experimental, quasi-experimental, case-control, or other applicable research designs that are appropriate for an initial determination about the effectiveness of VR service delivery practices identified under paragraphs (a) and (b) of the priority. Because we are using the term broadly, we agree with the commenter's suggestion to add the term “evaluate” to the language in paragraph (c) of the priority in order to clarify our meaning.

Changes: NIDRR has revised paragraph (c) of the priority to require the RRTC to test or evaluate the service delivery practices identified under paragraphs (a) and (b) of the priority.

Comment: In reference to the requirement that the RRTC test at least one intervention in each of the case study sites described in paragraph (b) of the priority, one commenter stated that the case study sites may not be the best sites in which to test the service delivery practices. This commenter noted a number of factors that must be considered in determining the suitability of a site for testing specific service delivery practices. This commenter suggested that the RRTC be allowed to work with NIDRR and RSA to determine the sites in which practices would be tested.

Discussion: NIDRR agrees with this commenter's assertion that the case study sites might not be the best sites for testing VR service delivery practices.

Changes: NIDRR has removed the requirement that practices be tested at the sites in which the case studies were conducted. NIDRR has also revised the priority to require the RRTC to test service delivery practices identified under paragraph (b) of this priority in at least two sites that will be chosen in conjunction with NIDRR and RSA.

Comment: One commenter asked whether NIDRR is interested either in practices that are uniquely developed to assist specific subpopulations of VR clients or in practices developed for a broader client base that can be demonstrated to work with particular subpopulations.

Discussion: NIDRR does not specify in the priority whether it seeks research either in practices that have been developed for specific VR subpopulations or in practices developed for the broader client base. Accordingly, an applicant may include either research approach in its proposal. NIDRR anticipates that decisions about the specific practices to be tested under paragraph (c) of the priority will be driven by the findings of the research activities conducted under paragraphs (a) and (b) of the priority.

Changes: None.

Comment: One commenter asked NIDRR for clarification regarding the term “intervention” in paragraph (c) of the priority.

Discussion: In the context of this priority, NIDRR uses the term “intervention” to mean VR service delivery practices.

Changes: To avoid confusion, NIDRR has revised paragraph (c) of the priority to eliminate use of the term “intervention.”

Final Priority: The Assistant Secretary for Special Education and Rehabilitative Services announces a priority for a Rehabilitation Research and Training Center (RRTC) on Effective Vocational Rehabilitation (VR) Service Delivery Practices. This RRTC must conduct research that contributes to new knowledge of VR service delivery practices that produce high-quality employment outcomes for VR customers. This RRTC will contribute to improved employment outcomes by generating new knowledge about effective practices that can be used by State VR agencies in serving their customers. This RRTC must focus on the delivery of VR services that are authorized in the Rehabilitation Act of 1973, as amended (Rehabilitation Act) (29 U.S.C. 701 et seq.). NIDRR will fund this research effort as a cooperative agreement in order to ensure close interaction between the grantee and staff from NIDRR and the Rehabilitation Services Administration (RSA).

Under this priority, the RRTC must contribute to the following outcomes:

(a) Increased knowledge of the variations among State VR agencies in achieving quality employment outcomes, including but not limited to wages and hours of work, for subpopulations of individuals with significant disabilities, as defined in the Rehabilitation Act (29 U.S.C. 705(21)(A) and (D)), who have lower than average employment outcomes rates, wages, and hours of work. The RRTC must contribute to this outcome by analyzing relevant RSA datasets that provide information on the outcomes of these subpopulations of individuals with significant disabilities and by systematically gathering input from VR counselors and administrators, RSA staff, VR customers, and community rehabilitation programs. This analysis will help to identify promising practices by identifying agencies that demonstrate statistically better than average employment outcome rates and quality employment outcomes for these subpopulations of VR customers. The RRTC must complete this work within six months of award of the cooperative agreement.

(b) Improved knowledge of specific VR service delivery practices that have strong potential for improving employment outcomes for the subpopulations of VR customers identified in paragraph (a) of this priority. The RRTC must contribute to this outcome by conducting in-depth case studies of VR agencies where data demonstrate quality employment outcomes that are statistically better than average for the subpopulations of VR customers identified in paragraph (a) above compared to VR agencies that demonstrate average employment outcomes for the same subpopulations. NIDRR and RSA staff must approve the topics for the case studies and the agencies that will serve as sites for these studies. The applicant must budget to conduct two to three in-depth case studies. These case studies must identify the elements of the promising practices, the barriers to and facilitators of the implementation of the practices, and the outcomes of the practices. The RRTC must complete this work by the end of year two of the cooperative agreement.

(c) New knowledge of VR service delivery practices that are effective in producing high-quality employment outcomes for VR customers, especially those identified in paragraph (a) of this priority. The RRTC must contribute to this outcome by conducting research that rigorously tests or evaluates promising service delivery practices identified in paragraph (b) of this priority. The RRTC will work with NIDRR and RSA to identify at least two appropriate sites for testing the service delivery practice(s).

(d) Enhanced likelihood of adoption of service delivery practices that demonstrate effectiveness as described in paragraph (c) of this priority. The RRTC must contribute to this outcome by developing implementation strategies and tools that will facilitate introduction and use of newly identified effective practices in other VR settings.

In addition, through coordination with the NIDRR Project Officer, this RRTC must—

• Collaborate with existing RSA grantees, including Regional Technical Assistance and Continuing Education (TACE) Centers, RSA's Technical Assistance Network, and RSA's National Technical Assistance Coordinator to disseminate new knowledge to key stakeholders; and

• Collaborate with existing NIDRR grantees, including the RRTC on VR, the Center on Effective Delivery of Rehabilitation Technology by VR Agencies, and the Research and Technical Assistance Center on VR Program Management.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Discussion of Costs and Benefits: The benefits of the Disability and Rehabilitation Research Projects and Centers Programs have been well established over the years in that similar projects have been completed successfully. This final priority will generate new knowledge through research and development.

Another benefit of this final priority is that the establishment of a new RRTC will improve the lives of individuals with disabilities. The new RRTC will generate, disseminate, and promote the use of new information that will improve the options for individuals with disabilities to obtain, retain, and advance in employment.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 2, 2010.
Alexa Posny,
Assistant Secretary for Special Education and Rehabilitative Services.

[FR Doc. 2010-16681 Filed 7-7-10; 8:45 am]

BILLING CODE 4000-01-P